DEPARTMENT OF THE INTERIOR

Bureau of Land Management

[AZ-020-00-1430-ES; AZA-31250]

Notice of Realty Action; Recreation and Public Purposes (R&PP) Act Classification; Arizona, Correction

AGENCY: Bureau of Land Management, Interior.

Correction: In notice issued in Volume 65 Number 152 beginning on page 48250 in the issue dated August 7, 2000, make the following correction: On page 48250 under SUMMARY:, in the third column, “25, E½SE¼SE¼” should read “25, E½, SE¼SW¼”.

Dated: August 28, 2000.
Deborah K. Rawhouser,
Assistant Field Manager, Resources, Use & Protection.

[FR Doc. 00-23365 Filed 9-11-00; 8:45 am]

BILLING CODE 4310-32-P